DEPARTMENT OF TRANSPORTATION

Federal Motor Carrier Safety Administration

[Docket No. FMCSA-2015-0051]

Qualification of Drivers; Exemption Applications; Vision

AGENCY: Federal Motor Carrier Safety Administration (FMCSA), DOT.

ACTION: Notice of denials.

SUMMARY: FMCSA announces its denial of 60 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 60 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following nine applicants had no experience operating a CMV:

Erica K. Boggs

Leslie L. Dana

George S. Ginder

Destin R. Huerd

Edison Joe

Miles K. Manross

Paul R. Oja

Brandon C. Shepard

Dontrell D. Williams

The following nine applicants did not have three years of experience driving a CMV on public highways with their vision deficiencies:

Osman M. Adanalic

William R. Bissell

David A. Crawford

Michael J. Floyd

Carlson Koyukuk

Abel D. Ordonez

Richard A. Paplow

Stephen J. Smith

Arlyn E. Witker

The following four applicants did not have three years of recent experience driving a CMV with the vision deficiency:

Carl Jones III

Jim Pace

Jeffrey G. Sherrill

Veronica N. Washington

The following two applicants did not have sufficient driving experience during the past three years under normal highway operating conditions:

William L. Bowers

Bridget Johnson

The following applicant, Richard Anthony, had his CDL suspended in relation to a moving violation during the three-year period. Applicants do not qualify for an exemption with a suspension during the three-year period.

The following five applicants were unable to obtain a statement from an optometrist or ophthalmologist stating that he was able to operate a commercial vehicle from a vision standpoint:

Cesar A. Guridy, Jr.

Arthur L. Mabb

Winston Merrick

Barnett K. Moss, Sr.

Donald J. Wilson

The following applicant, Larry Defrain, did not have stable vision for the entire three-year period.

The following two applicants did not meet the vision standard in their better eye:

Leonard Hixon

Ryan R. Kepford

The following nine applicants met the current federal vision standards. Exemptions are not required for applicants who meet the current regulations for vision:

John A. Ashworth

Ronaldo A. M. Curva

Robert L. Downs

Harry J. Glynn

Julian Gonzales

Linda Jones-Hawkins

Frederik J. Koning

Pedro Torres

Robert M. Walls

The following 15 applicants were denied because they will not be driving interstate, interstate commerce, or are not required to carry a DOT medical card:

Everardo G. Cantu

Gale D. Funke

Jeffrey W. Graham

Dillon L. Hendren

Noel C. Hill

Edgar I. IzquierdoGarcia

Robert Jasniewicz

Eric J. Johnson

Marion D. Kellstadt

Jeffrey E. Leisenring, Sr.

Leonard B. Mulkey

Michael K. Preslar

Vernon D. Roberts

Barbara H. Smith

Kyle O. Wrisley

Finally, the following three applicants perform transportation for the federal government, state, or any political sub-division of the state.

Robert L. Bick

James L. Lockwood

Fredrick D. McCaskill

Issued on: May 29, 2015.
Larry W. Minor,
Associate Administrator for Policy.

[FR Doc. 2015-14173 Filed 6-9-15; 8:45 am]

BILLING CODE 4910-EX-P